DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held June 4-7, 2001 starting at 9 a.m.

ADDRESSES: The meeting will be held at the Honeywell—Laguna South “Training Center,” 14980 NE 31st Circle, Redmond, WA, 98052.

FOR FURTHER INFORMATION CONTACT: (1) RTCA Secretariat, 1140 Connecticut Avenue, NW., Washington, DC, 20036; telephone (202) 833-9339; fax (202) 833-9434; web site http://www.rtca.org. (2) On-site Point of Contact: Pio Blankas, Redmond, WA: telephone (425) 885-8277; fax (425) 887-8431.

SUPPLEMENTARY INFORMATION: Pursuant to section 10(a)(2) of the Federal Advisory Committee Act (P.L. 92-463, U.S.C., Appendix 2), notice is hereby given for a Special Committee 186 meeting. The agenda will include:

• June 4, 5, 6:

• Working Group 4, ASA Minimum Aviation System Performance Standards (MASPS)

• Joint Working Group 1, Operations and Implementation

• June 7:

• Opening Session (Chairman's Introductory Remarks, Review of Meeting Agenda, Review/Approval of Previous Meeting Summary)

• USAF/DOD Requirements Process

• EUROCAE WG-51 Status Report (WG-51 Participation with ASA Minimum Aviation System Performance Standard (MASPS); WG-53 “Top Down” Methodology)

• SC-186 Activity Reports

• WG-1, Operations & Implementation

• WG-2, Traffic Information Service—Broadcast (TIS-B)

• WG-3, 1090 MHz Minimum Operational Performance Standard (MOPS)

• WG-4, Application Technical Requirements

• WG-5, Universal Access Transceiver (UAT) MOPS

• Ad Hoc MASPS Working Group (DO-242)

• Closing Session (Review Actions Items/Work Program, Other Business, Date, Place and Time of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 9, 2001.
Janice L. Peters,
FAA Special Assistant, RTCA Advisory Committee.

[FR Doc. 01-12233 Filed 5-15-01; 8:45 am]

BILLING CODE 4910-13-M